DEPARTMENT OF COMMERCE

[I.D. 082101A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Fishermen’s Contingency Fund

Form Number(s): NOAA Form 88-164 and 88-166.

OMB Approval Number: 0648-0082.

Type of Request: Regular submission.

Burden Hours: 2,017.

Number of Respondents: 200.

Average Hours Per Response: 10 hours for an application, 5 minutes for a 15-day report.

Needs and Uses: The Fishermen's Contingency Fund compensates U.S. commercial fishermen for loss of or damage to their fishing vessels or fishing gear, plus 50% of any gross economic loss, caused by oil and gas industry activities on the U.S. Outer Continental Shelf. In order to be compensated, fishermen must file an application for claims to NOAA. In order to gain a presumption that damage was caused by an item related to oil and gas activities, a report needs to be filed within 15 days of the event. If a report is not filed, the application must provide evidence to the cause.

Affected Public: Individuals and households, business or other for-profit organizations.

Frequency: On occasion.

Respondent's Obligation: Required to obtain or retain a benefit.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 17, 2001.
Gwellnar Banks,
Management Analyst, Office of the Chief Information Officer.

[FR Doc. 01-21510 Filed 8-23-01; 8:45 am]

BILLING CODE 3510-22-S